DEPARTMENT OF LABOR

Employment and Training Administration

[TA-W-56,931]

Westpoint Stevens, Inc., Now Known as Westpoint Home, Inc, Sparks Plant, Basic Bedding Division, Including On-Site Leased Workers From Express Personnel and Personnel Services, Sparks, NV; Amended Certification Regarding Eligibility To Apply for Worker Adjustment Assistance and Negative Determination Regarding Eligibility To Apply for Alternative Trade Adjustment Assistance

In accordance with Section 223 of the Trade Act of 1974 (19 U.S.C. 2273), and Section 246 of the Trade Act of 1974, (26 U.S.C. 2813), as amended, the Department of Labor issued a Certification of Eligibility to Apply for Worker Adjustment Assistance and a Negative Determination Regarding Eligibility to Apply for Alternative Trade Adjustment Assistance on June 3, 2005, applicable to workers of the WestPoint Stevens, Inc., Sparks Plant, Basic Bedding Division, including on-site leased workers from Express Personnel and Personnel Services, Sparks, Nevada. The notice was published in the Federal Register on June 28, 2005 (70 FR 37117).

At the request of a company official, the Department reviewed the certification for workers of the subject firm. The workers are engaged in the production of down filled and polyester filled pillows and down filled comforters.

Information submitted to the Department shows that on August 8, 2005, American Real Estate Partners purchased WestPoint Stevens, Inc. and is now known as WestPoint Home, Inc. Accordingly, the Department is amending this certification to reflect the new ownership.

The intent of the Department's certification is to include all workers of WestPoint Stevens, Inc., Sparks Plant, Basic Bedding Division who were adversely affected by increased imports.

The amended notice applicable to TA-W-56,931 is hereby issued as follows:

All workers of WestPoint Stevens, Inc., Now Known as WestPoint Home, Inc., Sparks Plant, Basic Bedding Division, including on-site leased workers from Express Personnel Staffing Agency and Personnel Services, Sparks, Nevada, who became totally or partially separated from employment on or after April 11, 2004, through June 3, 2007, are eligible to apply for adjustment assistance under Section 223 of the Trade Act of 1974.

and

I further determine that all workers of WestPoint Stevens, Inc., Now Known as WestPoint Home, Inc., Sparks Plant, Basic Bedding Division, including on-site leased workers from Express Personnel Staffing Agency and Personnel Services, Sparks, Nevada, are denied eligibility to apply for alternative trade adjustment assistance under Section 246 of the Trade Act of 1974.

Signed at Washington, DC, this 16th day of August, 2005.
Linda G. Poole,
Certifying Officer, Division of Trade Adjustment Assistance.

[FR Doc. E5-5191 Filed 9-26-05; 8:45 am]

BILLING CODE 4510-30-P